DEPARTMENT OF HEALTH AND HUMAN SERVICES

Centers for Disease Control and Prevention

Prospective Grant of Exclusive License: Diagnostics of Fungal Infections

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, limited field of use, exclusive license to practice the inventions embodied in the patent application referred to below to TNB Laboratories, Inc. (TNB) having a place of business in St. Johns, Newfoundland. The patent rights in these inventions have been assigned to the government of the United States of America. The patent application to be licensed is:

Title: “Latent Human Tuberculosis Model, Diagnostic Antigens, and Methods of Use,” U.S. Patent Application Serial No.: 10/250,930 (TBC).

Status: Pending.

Issue Date: N/A.

The prospective exclusive license will be royalty-bearing and will comply with the terms and conditions of 35 U.S.C. 209 and 37 CFR 404.7.

Technology

This technology adds a new level of specificity in the identification of Tuberculosis. It can be incorporated into a device to diagnose Latent Human Tuberculosis.

ADDRESSES: Requests for a copy of this patent application, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A signed Confidential Disclosure Agreement (available under Forms @ http://www.cdc.gov/tto) will be required to receive a copy of any pending patent application.

Dated: January 29, 2004.
Joseph R. Carter,
Deputy Chief Operating Officer, Centers for Disease Control and Prevention.

[FR Doc. 04-2396 Filed 2-4-04; 8:45 am]

BILLING CODE 4163-18-P